DEPARTMENT OF AGRICULTURE

Agricultural Marketing Service

7 CFR Part 1150

[Document No. DA-11-03: AMS-DA-08-0050]

Dairy Promotion and Research Program; Importer Nominations to the Dairy Promotion and Research Board

AGENCY: Agricultural Marketing Service, USDA.

ACTION: Rule.

SUMMARY: This action is pursuant to the Dairy Production Stabilization Act of 1983 (Dairy Act), as amended, and the Dairy Promotion and Research Order (Dairy Order), as amended, which require the Secretary of Agriculture to add importer representation, initially two members, to the National Dairy Promotion and Research Board (Dairy Board). USDA is seeking nominations of importers to be considered for appointment to the Dairy Board.

DATES: Nominations must be received on or before June 9, 2011.

FOR FURTHER INFORMATION CONTACT: Whitney Rick, USDA, AMS, Dairy Programs, Promotion and Research Branch, Stop 0233-Room 2958-S, 1400 Independence Avenue, SW., Washington, DC 20250-0233, (202) 720-6909, Whitney.Rick@ams.usda.gov.

SUPPLEMENTARY INFORMATION: This document is being issued pursuant to the Dairy Production Stabilization Act of 1983 (7 U.S.C. 4501-4514), Public Law 98-180, enacted November 29, 1983, as amended May 13, 2002, by Public Law 107-171 and further amended June 18, 2008, by Public Law 110-246, and the Dairy Order, as amended under the Final Rule [76 FR 14777; published in the Federal Register on March 18, 2011].

The Dairy Board was established under the Dairy Production Stabilization Act of 1983 (Dairy Act) to develop and administer a coordinated program of promotion, research, and nutrition education. Importer representation on the Dairy Board was mandated by the 2002 amendments to the Dairy Act. The Dairy Board is authorized to design programs to strengthen the dairy industry's position in domestic and foreign markets. The program is financed by a mandatory 15-cent per hundredweight assessment on all milk produced in the United States and marketed commercially and a 7.5-cent per hundredweight assessment on milk, or equivalent thereof, used to produce dairy products imported into the United States. Assessments on dairy products imported into the United States are effective beginning on August 1, 2011, as published in the March 18, 2011, Final Rule.

The Dairy Order states that, initially, importers will be represented on the Dairy Board by two importer members appointed by the Secretary. Thereafter, importer representation on the Dairy Board will be reviewed at least once every three years, and adjusted to reflect the volume of imports relative to domestic production of milk.

For the initial importer nominations, the Secretary will appoint two individuals from those nominated to serve as importer members on the Board. The length of a member's term will be three years. In order to properly coordinate the terms of importers with those of dairy farmer members and to stagger the two terms, initially one importer member will serve a two-year term ending October 31, 2013, and one importer member will serve a term ending October 31, 2014.

Importer nominees must be importers of dairy products and will be subject to the assessment to fund the National Dairy Promotion and Research Program. Such nominations may be submitted by individual importers of dairy products or by organizations representing dairy importers, as approved by the Secretary. Individual importers submitting nominations to represent importers on the Dairy Board must establish, to the satisfaction of the Secretary that the person submitting the nomination is an importer of dairy products. Importer organizations must adequately represent importers of dairy products under the primary determining considerations of whether its membership consist primarily of importers of dairy products and whether a substantial interest of the organization is in the importation of dairy products. An importer means a person that imports dairy products into the United States as a principal or as an agent, broker, or consignee of any person who produces or handles dairy products outside of the United States for sale in the United States, and who is listed as the importer of record for such dairy products.

For nominating forms and information, interested parties should contact Whitney Rick, USDA, AMS, Dairy Programs, Promotion and Research Branch, Stop 0233-Room 2958-S, 1400 Independence Avenue, SW., Washington, DC 20250-0233, (202) 720-6909, Whitney.Rick@ams.usda.gov. The forms also can be accessed online at http://www.ams.usda.gov/dairyimportassessment.

USDA welcomes membership on industry boards that reflects the diversity of the individuals served by the programs. In an effort to obtain nominations of diverse candidates, USDA encourages those individuals who represent interests of racial and ethnic minorities, women, and persons with disabilities to seek member nomination for the Dairy Board.

Dated: April 29, 2011.
David R. Shipman,
Associate Administrator, Agricultural Marketing Service.

[FR Doc. 2011-11015 Filed 5-9-11; 8:45 am]

BILLING CODE P